DEPARTMENT OF HOUSING AND URBAN DEVELOPMENT

[Docket No. FR-4976-N-02]

Notice of Proposed Information Collection: Comment Request; Requirements for Notification of Lead-Based Paint Hazards in Federally-Owned Residential Properties and Housing Receiving Federal Assistance

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: February 27, 2006.

ADDRESSES: Interested persons are invited to submit comments regarding this proposal. Comments should refer to the proposal by name and/or OMB Control Number and should be sent to: Wayne Eddins, AYO, Reports Management Officer, Department of Housing and Urban Development, 451 7th Street, SW., L'Enfant Plaza Building, Room 8003, Washington, DC 20410; fax: 202-708-3135; e-mail Wayne_Eddins@HUD.gov.

FOR FURTHER INFORMATION CONTACT: Robert F. Weisberg, LM, Program Management and Assurance Division, Office of Healthy Homes & Lead Hazard Control, Department of Housing and Urban Development, 451 Seventh Street, Southwest, Washington, DC 20410; e-mail Robert_F._Weisberg@hud.gov telephone (202) 755-1785 Ext. 142; Fax: (202) 755-1000 (these are not toll-free numbers) for other available information. If you are a hearing- or speech-impaired person, you may reach the above telephone numbers through TTY by calling the toll-free Federal Information Relay Service at 1-800-877-8339.

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of theproposed collection of information; (3) Enhance the quality, utility, and clarity of the information to be collected; and (45) Minimize the burden of the collection of information on those who are to respond; including through the use of appropriate automated collection techniques or other forms of information technology, e.g., permitting electronic submission of responses.

This Notice also lists the following information:

Title of Proposal: Requirements for Notification of Lead-Based Paint Hazards in Federally-Owned Residential Properties and Housing Receiving Federal Assistance.

OMB Control Number, if applicable: 2539-0009.

Description of the need for the information and proposed use: Requirements for Notification of Lead-Based Paint Hazards in Federally-Owned Residential Properties and Housing Receiving Federal Assistance.

Agency form numbers, if applicable: None.

Estimation of the total number of hours needed to prepare the information collection including number of respondents, frequency of response, and hours of response: An estimation of the total numbers of hours needed to prepare the information collection is 252,778, number of respondents is 80,638, frequency of response is “on occasion,” and the hours per response is 3.1 hours.

Status of the proposed information collection: Extension of a currently approved collection.

Authority: Section 3506 of the Paperwork Reduction Act of 1995, 44 U.S.C. Chapter 35, as amended.

Dated: December 21, 2005.
Warren Friedman,
Deputy Director, Office of Healthy Homes and Lead Hazard Control.

[FR Doc. 05-24578 Filed 12-28-05; 8:45 am]

BILLING CODE 4210-70-M